DEPARTMENT OF JUSTICE

Antitrust Division

Notice Pursuant to the National Cooperative Research and Production Act of 1993—National Armaments Consortium

Notice is hereby given that, on November 5, 2018, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Adranos, Inc., West Lafayette, IN; Aeryon Defense USA, Inc., Denver, CO; Applied Technology, Inc., King George, VA; Aquabotix Technology Corporation, Fall River, MA; Archarithms, Inc., Huntsville, AL; ASRC Federal Astronautics, LLC, Huntsville, AL; Aviation & Missile Solutions, LLC, Huntsville, AL; Bally Ribbon Mills, Bally, PA; Barrett Firearms Manufacturing, Inc., Christina, TN; California State University, Long Beach Research Foundation, Long Beach, CA; CKS Technologies, Huntsville, AL; Defense Makers Incorporated, Huntsville, AL; Elta North America, Annapolis Junction, MD; Fairwinds Technologies, Inc., Annapolis, MD; Fraen Corporation, Reading, MA; Fulcrum Concepts LLC, Mattaponi, VA; Future Skies, Inc., Wall Township, NJ; Geocent, LLC, Metairie, LA; Invisible Interdiction, Inc., Vero Beach, FL; L3 Technologies, Communication Systems West, Salt Lake City, UT; LaserMax, Inc. dba LaserMaxDefense (LMD), Rochester, NY; Liteye Systems, Inc., Centennial, CO; Mad Minute, LLC, Detroit, MI; McConnell Jones Lanier & Murphy LLP d.b.a. MJLM Engineering & Technical Services, Huntsville, AL; Megaray LLC, New York, NY; Microwave Innovations, Inc., Furlong, PA; Millennium Corporation, Arlington, VA; N2 Imaging Systems, LLC, Irvine, CA; Pacific Antenna Systems LLC, Camarillo, CA; Point Blank Enterprises, Inc., Pompano Beach, FL; Production Systems Automation, LLC, Duryea, PA; Quantum Information Extraction, Inc. (QIE, Inc.), Huntsville, AL; Research Innovations, Inc., Alexandria, VA; Rochester Institute of Technology, Rochester, NY; Spectral Sciences, Inc., Burlington MA; Steiner eOptics, Inc., Miamisburg, OH; System Studies & Simulation, Inc. (S3), Huntsville, AL; Systematic Inc., Centreville, VA; T.E.A.M., Inc., Woonsocket, RI; Tech62, Inc., Fairfax, VA; TELEGRID Technologies, Inc., Florham, NJ; TeraSys Technologies, El Dorado Hills, CA; Troy Industries, Inc., West Springfield, MA; Tungsten Heavy Powder, Inc., San Diego, CA; Ultimate Training Munitions, Inc., North Branch, NJ; Vista Outdoor Sales, LLC, Anoka, MN; Wichita State University, Wichita, KS; and Willbrook Solutions, Inc., Huntsville, AL, have been added as parties to this venture.

Also, Advanced Materials & Manufacturing Technologies, LLC, Granite Bay, CA; Andrews Space, Tukwila, WA; ATS Armor, LLC, Scottsdale, AZ; Bruker Detection Corporation, Billerica, MA; C6I Services Corporation, Chesterfield, NJ; Digital Fusion Solutions, Inc., a wholly-owned subsidiary of Kratos Defense & Security Solutions, Inc., Huntsville, AL; Drexel University, Philadelphia, PA; Earthly Dynamics LLC, Atlanta, GA; Fibertek, Inc., Herndon, VA; Fraser Optics LLC, Feasterville-Trevose, PA; Group W, Fairfax, VA; HBM nCode Federal, LLC, Southfield, MI; Honeybee Robotics, Ltd., Brooklyn, NY; Joint Research and Development, Inc., Belcamp, MD; K2 Solutions, Inc., Southern Pines, PA; L-3 Applied Technologies, Inc., San Leandro, CA; Missouri University of Science and Technology, Rolla, MO; Novotech, Inc., Acton, MA; Shell Shock Technologies, LLC, Westport, CT; Shonborn-Becker Systems, Inc., Eatontown, NJ; Streamline Numerics, Inc., Gainesville, FL; Tanenhaus and Associates, Inc., Annapolis, VA; Tethers Unlimited, Inc., Bothell, WA; and Thermacore Materials Technology Division, Lancaster, PA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on July 20, 2018. A notice was published in the Federal Register pursuant to Section 6(b) of the Act on August 6, 2018 (83 FR 38323).

Suzanne Morris,
Chief, Premerger and Division Statistics Unit, Antitrust Division.

[FR Doc. 2018-26394 Filed 12-4-18; 8:45 am]

BILLING CODE 4410-11-P